DEPARTMENT OF THE TREASURY

Bureau of the Fiscal Service

Proposed Collection of Information: Direct Deposit, Go Direct, and Direct Express Sign-Up Forms

AGENCY: Bureau of the Fiscal Service, Fiscal Service, Treasury.

ACTION: Notice and request for comments.

SUMMARY: The Bureau of the Fiscal Service, Fiscal Service, as part of its continuing effort to reduce paperwork and respondent burden, invites the general public and other Federal agencies to take this opportunity to comment on a continuing information collection. By this notice, the Bureau of Fiscal Service solicits comments concerning the Forms 1199A “Direct Deposit Sign-Up Form”, Form 1200 “Go Direct Sign-Up Form for Direct Deposit of Federal Benefit Payments”, Form 1200VADE “Direct Express Sign-Up Form for Direct Deposit for Veterans Affairs Benefits”, Form 1201L “Direct Express Sign-Up Form for Direct Deposit of Labor”, and Form 1201S “Social Security and Supplemental Security Federal Benefits”

DATES: Written comments should be received on or before July 29, 2013.

ADDRESSES: Direct all written comments to Bureau of the Fiscal Service, Records and Information Management Branch, Room 135, 3700 East-West Highway, Hyattsville, Maryland 20782.

FOR FURTHER INFORMATION CONTACT: Requests for additional information or copies of the form(s) and instructions should be directed to Walt Henderson, Director, EFT Strategy Division, Room 303, 401 14th Street SW., Washington, DC 20227, (202) 874-6624.

SUPPLEMENTARY INFORMATION: Pursuant to the Paperwork Reduction Act of 1995, (44 U.S.C. 3506(c)(2)(A)), the Bureau of the Fiscal Service solicits comments on the collection of information described below:

Title: Direct Deposit Sign-Up Form, and Go Direct Sign-Up Form, and Direct Express Form for Direct Deposit of Federal Benefit Payments.

OMB Number: 1510-0007.

Form Number(s): SF-1199A, FMS-1200, FMS-1200VADE, FMS-1201L, FMS-1201S.

Abstract: These forms are used by recipients to authorize the deposit of Federal payments into their accounts at financial institutions. The information on the forms routes the direct deposit payment to the correct account at the financial institution.

Current Actions: Extension of currently approved collection.

Type of Review: Regular.

Affected Public: Individuals or households, Business or other for-profit, Federal Government.

Estimated Number of Respondents: 406,715.

Estimated Time Per Respondent: 10 minutes.

Estimated Total Annual Burden Hours: 67,786.

Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: May 21, 2013.
John B. Hill,
Assistant Commissioner, Payment Management.

[FR Doc. 2013-12560 Filed 5-29-13; 8:45 am]

BILLING CODE 4810-35-M